DEPARTMENT OF COMMERCE

National Oceanic and Atmospheric Administration

RIN 0648-XC252

Endangered Species; File No. 17316

AGENCY: National Marine Fisheries Service (NMFS), National Oceanic and Atmospheric Administration (NOAA), Commerce.

ACTION: Issuance of permit.

SUMMARY: Notice is hereby given that George Burgess, Ph.D., Florida Museum of Natural History, Dickinson Hall, University of Gainesville, Gainesville, FL 32611, has been issued a permit to take smalltooth sawfish (Pristis pectinata) for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

FOR FURTHER INFORMATION CONTACT: Colette Cairns or Jennifer Skidmore, (301) 427-8401.

SUPPLEMENTARY INFORMATION: On September 24, 2012, notice was published in the Federal Register (77 FR 58812) that a request for a scientific research permit to take smalltooth sawfish had been submitted by the above-named individual. The requested permit has been issued under the authority of the Endangered Species Act of 1973, as amended (ESA; 16 U.S.C. 1531 et seq.) and the regulations governing the taking, importing, and exporting of endangered and threatened species (50 CFR parts 222-226).

The permit holder is authorized to gather life history information on smalltooth sawfish populations of Florida, primarily in Florida Bay and the upper Keys area. The purpose of the research is to investigate the movements and habitat use of smalltooth sawfish in Florida waters. Annually, up to 80 sawfish may be captured by gillnet, longline, or angling gear, measured, passive integrated transponder, roto, dart, and external satellite tagged, tissue, muscle, and blood sampled, and released. Dead sawfish acquired through strandings or from law enforcement confiscations may be sampled for scientific purposes. The permit is authorized for a duration of 5 years.

Issuance of this permit, as required by the ESA, was based on a finding that such permit (1) Was applied for in good faith, (2) will not operate to the disadvantage of such endangered or threatened species, and (3) is consistent with the purposes and policies set forth in section 2 of the ESA.

Dated: March 7, 2013.
P. Michael Payne,
Chief, Permits and Conservation Division, Office of Protected Resources, National Marine Fisheries Service.

[FR Doc. 2013-05617 Filed 3-11-13; 8:45 am]

BILLING CODE 3510-22-P